DEPARTMENT OF HOMELAND SECURITY

U.S. Immigration and Customs Enforcement

[1653-0053]

Agency Information Collection Activities: Allegation of Counterfeiting and Intellectual Piracy, Form No. 73-048

AGENCY: U.S. Immigration and Customs Enforcement, Department of Homeland Security.

ACTION: 30-Day notice and request for comments; extension, without change, of an existing collection of information.

SUMMARY: The Department of Homeland Security, U.S. Immigration and Customs Enforcement (USICE) will be submitting the following information collection request to the Office of Management and Budget (OMB) for review and clearance in accordance with the Paperwork Reduction Act of 1995. This proposed information collection was previously published in the Federal Register (83 FR 39771) on August 10, 2018, allowing for a 60-day comment period. USICE received no comments during this period. Based on better estimates, ICE is making an adjustment from the 60-day notice to reflect an increase in the number of respondents. The purpose of this notice is to allow an additional 30 days for public comments.

DATES: Comments are encouraged and will be accepted until November 19, 2018.

ADDRESSES: Interested persons are invited to submit written comments and/or suggestions regarding the item(s) contained in this notice, especially regarding the estimated public burden and associated response time, to the Office of Information and Regulatory Affairs, Office of Management and Budget. Comments should be addressed to the OMB Desk Officer for Immigration and Customs Enforcement, Department of Homeland Security, and sent via electronic mail to dhsdeskofficer@omb.eop.gov. All submissions must include the words “Department of Homeland Security” and the OMB Control Number 1653-0053.

SUPPLEMENTARY INFORMATION: Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, Without Change, of a Currently Approved Collection.

(2) Title of the Form/Collection: Allegation of Counterfeiting and Intellectual Piracy.

(3) Agency form number, if any, and the applicable component of DHS sponsoring the collection: Form 73-048, USICE.

(4) Affected public who will be asked or required to respond, as well as a brief abstract: Primary: Individuals or households. This electronic form/collection will be utilized by the public and law enforcement partners as part of an automated allegation and deconfliction program.

(5) An estimate of the total number of respondents and the amount of time estimated for an average respondent to respond: 21,711 responses at .5 hours (30 minutes).

(6) An estimate of the total public burden (in hours) associated with the collection: 10,855 hours.

(7) An estimate of the total public burden (in cost) associated with the collection: $316,860.

Dated: October 15, 2018.
Scott Elmore,
PRA Clearance Officer, Office of the Chief Information Officer, U.S. Immigration and Customs Enforcement, Department of Homeland Security.

[FR Doc. 2018-22783 Filed 10-18-18; 8:45 am]

BILLING CODE 9111-28-P